DEPARTMENT OF STATE

[Public Notice 3296]

Amendment to Culturally Significant Objects Imported for Exhibition Determinations: “1900: Art at the Crossroads”

DEPARTMENT: United States Department of State.

ACTION: Notice.

SUMMARY: Notice is hereby given of the following determinations: Pursuant to the authority vested in me by the Act of October 19, 1965 [79 Stat. 985, 22 U.S.C. 2459], the Foreign Affairs Reform and Restructuring Act of 1998 [112 Stat. 2681 et seq.], Delegation of Authority No. 234 of October 1, 1999 [64 FR 56014], and Delegation of Authority No. 236 of October 19, 1999, as amended by Delegation of Authority No. 236-1 of November 9, 1999, I hereby determine that an additional object to be included in the exhibit, “1900: Art at the Crossroads,” imported from abroad for the temporary exhibition without profit within the United States, is of cultural significance. The object will be imported pursuant to a loan agreement with a foreign lender. I also determine that the temporary exhibition or display of the additional object at the Guggenheim Museum, New York, NY, from on or about May 18, 2000, to on or about September 10, 2000, is in the national interest. Public Notice of these determinations is ordered to be published in the Federal Register.

FOR FURTHER INFORMATION CONTACT: For further information, including a list of all exhibit objects, contact Paul W. Manning, Attorney-Adviser, Office of the Legal Adviser, 202/619-5997, and the address is Room 700, United States Department of State, 301 4th Street, SW, Washington, DC 20547-0001.

Dated: May 2, 2000.
William B. Bader,
Assistant Secretary for Educational and Cultural Affair, United States Department of State.

[FR Doc. 00-11557 Filed 5-8-00; 8:45 am]

BILLING CODE 4710-08-P